DEPARTMENT OF THE TREASURY

Internal Revenue Service

Proposed Information Collection; Comment Request

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments should be received on or before October 15, 2012 to be assured of consideration.

ADDRESSES: Direct all written comments to Yvette. B. Lawrence, Internal Revenue Service, Room 6129, 1111 Constitution Avenue NW., Washington, DC 20224.

Please send separate comments for each specific information collection listed below. You must reference the information collection's title, form number, reporting or record-keeping requirement number, and OMB number (if any) in your comment.

FOR FURTHER INFORMATION CONTACT: To obtain additional information, or copies of the information collection and instructions, or copies of any comments received, contact Joel Goldberger, 202-927-9368, or at Internal Revenue Service, room 6129, 1111 Constitution Avenue NW., Washington, DC 20224, or through the Internet, at Joel.P.Goldberger@irs.gov.

SUPPLEMENTARY INFORMATION:

Request for Comments: The Department of the Treasury and the Internal Revenue Service, as part of their continuing effort to reduce paperwork and respondent burden, invite the general public and other Federal agencies to take this opportunity to comment on the proposed or continuing information collections listed below in this notice, as required by the Paperwork Reduction Act of 1995, (44 U.S.C. 3501 et seq.).

Request For Comments: Comments submitted in response to this notice will be summarized and/or included in our request for Office of Management and Budget (OMB) approval of the relevant information collection. All comments will become a matter of public record. Please do not include any confidential or inappropriate material in your comments.

We invite comments on: (a) Whether the collection of information is necessary for the proper performance of the agency's functions, including whether the information has practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide the requested information.

Information Collections Open for Comment: Currently, the IRS is seeking comments concerning the following forms, and reporting and record-keeping requirements:

Title: Application or Foreign Account Tax Compliance Act (FATCA) Individual Identification Number.

OMB Number: 1545-XXXX.

Form Number: 8956.

Abstract: The IRS is developing New Form 8956 under the authority of IRC section 1471(b), which was added by Public Law 111-47, section 501(a). Section 1471 is part of the new Foreign Account Tax Compliance Act (FATCA) legislative framework to obtain reporting from foreign financial institutions on the accounts held in their institutions by US persons.

Current Actions: This is a new form.

Affected Public: Business and other for profit and not-for-profit institutions.

Estimated Number of Respondents: 260,000.

Estimated Time per Respondent: Two hours 59 minutes.

Estimated Total Annual Burden Hours: 759,200.

Title: Registration for Participating, Limited, or Registered Deemed Compliant Foreign Financial Institution Status.

OMB Number: 1545-XXXX.

Form Number: 8957.

Abstract: The IRS is developing New Form 8956 under the authority of IRC section 1471(b), which was added by Public Law 111-47, section 501(a). Section 1471 is part of the new Foreign Account Tax Compliance Act (FATCA) legislative framework to obtain reporting from foreign financial institutions on the accounts held in their institutions by U.S. persons.

Current Actions: This is a new form.

Affected Public: Business and other for profit and not-for-profit institutions.

Estimated Number of Respondents: 260,000.

Estimated Time per Respondent: 8 hours seven minutes.

Estimated Total Annual Burden Hours: 2,116,400.

The following paragraph applies to all of the collections of information covered by this notice:

An agency may not conduct or sponsor, and a person is not required to respond to a collection of information, unless the collection of information displays a valid OMB control number.

Approved: August 8, 2012.
Yvette B. Lawrence,
IRS Reports Clearance Officer.

[FR Doc. 2012-19972 Filed 8-14-12; 8:45 am]

BILLING CODE 4830-01-P